DEPARTMENT OF ENERGY

Federal Energy Regulatory Commission

[Docket No. EC00-112-000, et al.]

Entergy Gulf States, Inc., et al.; Electric Rate and Corporate Regulation Filings

July 17, 2000.

Take notice that the following filings have been made with the Commission:

1. Entergy Gulf States, Inc.

[Docket No. EC00-112-000]

Take notice that on July 6, 2000, Entergy Gulf States, Inc. tendered for filing five copies and an original of an Application for Transfer of Jurisdictional Assets Under Section 203 of the Federal Power Act, requesting that the Commission approve the sale of Bunch Gully Substation to Chevron Chemical Company LLC.

Comment date: August 7, 2000, in accordance with Standard Paragraph E at the end of this notice.

2. Southern Indiana Gas & Electric Company; Vectren Utility Holdings, Inc.; Vectren Corporation

[Docket No. EC00-113-000]

Take notice that on July 10, 2000, Southern Indiana Gas & Electric Company (SIGECO), Vectren Corporation (Vectren) and Vectren Utility Holdings, Inc. (VUHI), filed with the Federal Energy Regulatory Commission an application for approval of corporate reorganization under Section 203 of the Federal Power Act. The proposed Reorganization involves a change in the ownership structure of SIGECO, that will be accomplished by Vectren contributing the stock of SIGECO to its newly formed, wholly-owned subsidiary, VUHI.

Comment date: August 9, 2000, in accordance with Standard Paragraph E at the end of this notice.

3. Calpine Power Services Company; Calpine Energy Services, L.P.

[Docket No. EC00-114-000]

Take notice that on July 11, 2000, Calpine Power Services Company (CPSC) and Calpine Energy Services, L.P. (CES) tendered for filing an application under Section 203 of the Federal Power Act for approval of an intra-corporate reorganization under which CPSC will transfer its market-based rate tariff and associated jurisdictional facilities to its affiliate, CES.

Comment date: August 11, 2000, in accordance with Standard Paragraph E at the end of this notice.

4. Ameren Energy Marketing Company and Central Illinois Public Service Company

[Docket No. ER00-3025-000]

Take notice that on July 12, 2000, Ameren Energy Marketing Company (AEM) and Central Illinois Public Service Company d/b/a AmerenCIPS (AmerenCIPS), tendered for filing an executed Voluntary Curtailment Agreement in the above referenced docket.

Comment date: August 2, 2000, in accordance with Standard Paragraph E at the end of this notice.

5. Wisvest-Connecticut, LLC

[Docket No. ER00-3107-000]

Take notice that on July 11, 2000, Wisvest-Connecticut, LLC (Wisvest-Connecticut), tendered for filing with the Commission an umbrella agreement for short-term service with Sempra Energy Trading Corp., pursuant to the Commission's order dated February 10, 1999. Wisvest-Connecticut, LLC., 86 FERC ¶ 61,133 (1999).

Comment date: August 1, 2000, in accordance with Standard Paragraph E at the end of this notice.

6. Southern California Edison Company

[Docket No. ER00-3108-000]

Take notice that on July 11, 2000, Southern California Edison Company (SCE), tendered for filing a Service Agreement for Wholesale Distribution Service and an Interconnection Facilities Agreement (Agreements) between Riverside County Waste Management Department and SCE.

These Agreements specify the terms and conditions pursuant to which SCE will interconnect RCWMD's generating facility to its electrical system and provide Distribution Service for up to 2.5 MW of power produced by RCWMD's Badlands Landfill generating facility.

Comment date: August 1, 2000, in accordance with Standard Paragraph E at the end of this notice.

7. Arizona Public Service Company

[Docket No. ER00-3110-000]

Take notice that on July 12, 2000, Arizona Public Service Company (APS), tendered for filing Service Agreements to provide Long-Term Firm Point-to-Point Transmission Service to Salt River Project Agricultural and Power Improvement District under APS' Open Access Transmission Tariff.

A copy of this filing has been served Salt River Project Agricultural and Power Improvement District, and the Arizona Corporation Commission.

Comment date: August 2, 2000, in accordance with Standard Paragraph E at the end of this notice.

8. Louisville Gas and Electric Company/Kentucky Utilities Company

[Docket No. ER00-3113-000]

Take notice that on July 11, 2000, Louisville Gas and Electric Company (LG&E)/Kentucky Utilities Company (KU) (hereinafter Companies), tendered for filing an unexecuted bilateral Service Sales Agreement between the Companies and Amerada Hess Corporation under the Companies Rate Schedule MBSS.

Comment date: August 1, 2000, in accordance with Standard Paragraph E at the end of this notice.

9. Louisville Gas and Electric Company/Kentucky Utilities Company

[Docket No. ER00-3114-000]

Take notice that on July 11, 2000, Louisville Gas and Electric Company (LG&E)/Kentucky Utilities (KU) (hereinafter Companies), tendered for filing an executed Netting Agreement between the Companies and Allegheny Energy Supply Company, LLC.

Comment date: August 1, 2000, in accordance with Standard Paragraph E at the end of this notice.

10. Louisville Gas and Electric Company/Kentucky Utilities Company

[Docket No. ER00-3115-000]

Take notice that on July 11, 2000, Louisville Gas and Electric Company (LG&E)/Kentucky Utilities (KU) (hereinafter Companies), tendered for filing an executed unilateral Service Sales Agreement between Companies and Allegheny Energy Supply Company, LLC under the Companies' Rate Schedule MBSS.

Comment date: August 1, 2000, in accordance with Standard Paragraph E at the end of this notice.

11. Illinois Power Company

[Docket No. ER00-3116-000]

Take notice that on July 11, 2000, Illinois Power Company (Illinois Power), 500 South 27th Street, Decatur, Illinois 62526, tendered for filing firm and non-firm transmission agreements under which Cargill-Alliant, LLC will take transmission service pursuant to its open access transmission tariff. The agreements are based on the Form of Service Agreement in Illinois Power's tariff.

Illinois Power has requested an effective date of June 15, 2000.

Comment date: August 1, 2000, in accordance with Standard Paragraph E at the end of this notice.

12. Illinois Power Company

[Docket No. ER00-3117-000]

Take notice that on July 11, 2000, Illinois Power Company (Illinois Power), 500 South 27th Street, Decatur, Illinois 62526, tendered for filing non-firm transmission agreements under which Unicom Energy, Inc., will take transmission service pursuant to its open access transmission tariff. The agreements are based on the Form of Service Agreement in Illinois Power's tariff.

Illinois Power has requested an effective date of July 1, 2000.

Comment date: August 1, 2000, in accordance with Standard Paragraph E at the end of this notice.

13. PacifiCorp

[Docket No. ER00-3118-000]

Take notice that on July 11, 2000, PacifiCorp, tendered for filing in accordance with 18 CFR 35 of the Commission's Rules and Regulations, a fully executed Unit Contingent Power Sale Agreement (Agreement) between Flathead Electric Cooperative, Inc. (Flathead) and PacifiCorp.

Copies of this filing were supplied to the Washington Utilities and Transportation Commission and the Public Utility Commission of Oregon.

Comment date: August 1, 2000, in accordance with Standard Paragraph E at the end of this notice.

14. Citizens Power Sales LLC, et al.

[Docket No. ER00-3120-000]

Take notice that on July 12, 2000, Citizens Power Sales LLC, Hartford Power Sales, L.L.C., CL Power Sales One, L.L.C., CL Power Sales Two, L.L.C., CL Power Sales Five, L.L.C., CL Power Sales Six, L.L.C., CL Power Sales Seven, L.L.C., CL Power Sales Eight, L.L.C., CL Power Sales Nine, L.L.C., CL Power Sales Ten, L.L.C., CP Power Sales Twelve, L.L.C., CP Power Sales Thirteen, L.L.C., CP Power Sales Fourteen, L.L.C., CP Power Sales Fifteen, L.L.C., CP Power Sales Seventeen, L.L.C., CP Power Sales Eighteen, L.L.C., CP Power Sales Nineteen, L.L.C., and CP Power Sales Power Sales Twenty, L.L.C., tendered for filing an amendments to their Rate Schedule FERC No. 1 to prohibit sales to and purchases from an affiliate with a franchised electric service territory, include a related code of conduct, reflect a name change, and incorporate the requirements of Order No. 614, 90 FERC ¶ 61,352 (2000).

Comment date: August 2, 2000, in accordance with Standard Paragraph E at the end of this notice.

Standard Paragraph

E. Any person desiring to be heard or to protest such filing should file a motion to intervene or protest with the Federal Energy Regulatory Commission, 888 First Street, N.E., Washington, DC. 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-18501 Filed 7-20-00; 8:45 am]

BILLING CODE 6717-01-P